UNITED STATES INSTITUTE OF PEACE

Notice of Board of Directors Meeting

AGENCY: United States Institute of Peace (USIP) and Endowment of the United States Institute of Peace.

ACTION: Announcement of meeting.

SUMMARY: Meeting of the Board of Directors: Chair's Report; Vice Chair's Report; President's Report; Approval of Minutes; Meeting of the Board of Directors of the Endowment of the U.S. Institute of Peace; USIP Key Current Initiatives: Afghanistan; Countering Violent Extremism; and Youth; Reports from USIP Board Committees: Governance and Compliance; Strategy and Program; Audit and Finance; Security and Facilities; and Talent and Culture.

DATES: Friday, October 15, 2021 (10:00 a.m.-12:00 p.m.).

ADDRESSES: Virtual Board Meeting Information: Join by video: https://usip-org.zoomgov.com/j/1600200755?pwd=TGJMbzNrQ2dVR3B3ZVJIZUxpQThVZz09; Dial-in option: +1-646-828-7666; Meeting ID: 160 020 0755/Passcode: 741347.

FOR FURTHER INFORMATION CONTACT: Megan O'Hare, 202-429-4144, mohare@usip.org.

SUPPLEMENTARY INFORMATION: Open Session—Portions may be closed pursuant to Subsection (c) of Section 552(b) of Title 5, United States Code, as provided in subsection 1706(h)(3) of the United States Institute of Peace Act, Public Law 98-525.

Authority: 22 U.S.C. 4605(h)(3).

Dated: September 30, 2021.
Megan O'Hare,
Chief of Staff.

[FR Doc. 2021-21834 Filed 10-5-21; 8:45 am]

BILLING CODE 6820-AR-P